DEPARTMENT OF ENERGY

Federal Energy Regulatory Commission

[Docket Nos. RP12-39-000; RP12-39-001]

Algonquin Gas Transmission, LLC; Notice Establishing Deadline for Comments

On August 22, 2012, Algonquin Gas Transmission, LLC (Algonquin) filed a response to the Commission's August 10, 2012 Data Request in the captioned proceedings.

Notice is hereby given that participants in the captioned proceedings may file comments to Algonquin's Data Response on or before 5 p.m. Eastern time on Wednesday, September 5, 2012.

Dated: August 27, 2012.
Kimberly D. Bose,
Secretary.

[FR Doc. 2012-21656 Filed 8-31-12; 8:45 am]

BILLING CODE 6717-01-P